INTERNATIONAL TRADE COMMISSION

[Investigation No. 731-TA-1088 (Preliminary)]

Polyvinyl Alcohol From Taiwan

Determination

On the basis of the record ¹ developed in the subject investigation, the United States International Trade Commission (Commission) determines, pursuant to section 733(a) of the Tariff Act of 1930 (19 U.S.C. 1673b(a)) (the Act), that there is no reasonable indication that an industry in the United States is materially injured or threatened with material injury, or that the establishment of an industry in the United States is materially retarded, by reason of imports from Taiwan of polyvinyl alcohol, provided for in subheading 3905.30.00 of the Harmonized Tariff Schedule of the United States, that are alleged to be sold in the United States at less than fair value (LTFV).² ³

¹ The record is defined in sec. 207.2(f) of the Commission's Rules of Practice and Procedure (19 CFR 207.2(f)).

² Commissioner Hillman did not participate in this investigation.

³ Chairman Koplan and Commissioner Miller dissented, having determined that there is a reasonable indication that an industry in the United States is materially injured by reason of allegedly LTFV imports of polyvinyl alcohol from Taiwan.

Background

On September 7, 2004, a petition was filed with the Commission and Commerce by Celanese Chemicals Ltd., Dallas, TX, alleging that an industry in the United States is materially injured and threatened with further material injury by reason of LTFV imports of polyvinyl alcohol from Taiwan. Accordingly, effective September 7, 2004, the Commission instituted antidumping duty investigation No. 731-TA-1088 (Preliminary).

Notice of the institution of the Commission's investigation and of a public conference to be held in connection therewith was given by posting copies of the notice in the Office of the Secretary, U.S. International Trade Commission, Washington, DC, and by publishing the notice in the Federal Register of September 15, 2004 (69 FR 55653). The conference was held in Washington, DC, on September 28, 2004, and all persons who requested the opportunity were permitted to appear in person or by counsel.

The Commission transmitted its determination in this investigation to the Secretary of Commerce on October 22, 2004. The views of the Commission are contained in USITC Publication 3732 (October 2004), entitled Polyvinyl Alcohol from Taiwan: Investigation No. 731-TA-1088 (Preliminary).

By order of the Commission.
Issued: October 25, 2004.
Marilyn R. Abbott,
Secretary to the Commission.

[FR Doc. 04-24205 Filed 10-28-04; 8:45 am]

BILLING CODE 7020-02-P